DEPARTMENT OF COMMERCE

Foreign-Trade Zones Board

[Order No. 1350]

Approval of Manufacturing Authority Within Foreign-Trade Zone 82; Mobile, Alabama; Bender Shipbuilding and Repair Company (Shipbuilding)

Pursuant to its authority under the Foreign-Trade Zones Act of June 18, 1934, as amended (19 U.S.C. 81a-81u) (the Act), the Foreign-Trade Zones Board (the Board) adopts the following Order:

Whereas, the City of Mobile, Alabama, grantee of FTZ 82, has requested authority under Section 400.32(b)(1) of the Board's regulations on behalf of Bender Shipbuilding and Repair Company (Bender), to construct and repair oceangoing vessels under FTZ procedures within FTZ 82—Site 1, Mobile, Alabama (Docket 37-2003, filed 7-29-2003);

Whereas, pursuant to 15 CFR 400.32(b)(1), the Commerce Department's Assistant Secretary for Import Administration has the authority to act for the Board in making such decisions on new manufacturing/processing activity under certain circumstances, including situations where the proposed activity is the same, in terms of products involved, to activity recently approved by the Board (§ 400.32(b)(1)(i));

Whereas, the proposed shipbuilding and repair activity would be subject to the “Standard Shipyard Restriction” (full Customs duties paid on steel mill products); and,

Whereas, the FTZ Staff has reviewed the proposal, taking into account the criteria of Section 400.31, and the Executive Secretary has recommended approval, subject to restriction;

Now, Therefore, the Assistant Secretary for Import Administration, acting for the Board pursuant to Section 400.32(b)(1), concurs in the recommendation and hereby approves the request subject to the Act and the Board's regulations, including Section 400.28, and the following special conditions:

1. Any foreign steel mill product admitted to the subzone, including plate, angles, shapes, channels, rolled steel stock, bars, pipes and tubes, not incorporated into merchandise otherwise classified, and which is used in manufacturing, shall be subject to full Customs duties in accordance with applicable law, unless the Executive Secretary determines that the same item is not then being produced by a domestic steel mill.

2. In addition to the annual report, Bender shall advise the Board's Executive Secretary (§ 400.28(a)(3)) as to significant new contracts with appropriate information concerning foreign purchases otherwise dutiable, so that the Board may consider whether any foreign dutiable items are being imported for manufacturing in the subzone primarily because of subzone status and whether the Board should consider requiring Customs duties to be paid on such items.

3. All foreign-origin netting of twine, cordage, or rope covered by Textile Category 229 must be admitted under domestic status (19 CFR 146.43).

Signed at Washington, DC, this 27th day of August 2004.
James J. Jochum,
Assistant Secretary of Commerce for Import Administration, Alternate Chairman, Foreign-Trade Zones Board.

[FR Doc. 04-20156 Filed 9-2-04; 8:45 am]

BILLING CODE 3510-DS-P